FARM CREDIT SYSTEM INSURANCE CORPORATION

Regular Meeting; Farm Credit System Insurance Corporation Board

AGENCY: Farm Credit System Insurance Corporation.

ACTION: Notice; regular meeting.

SUMMARY: Notice is hereby given, in accordance with the provisions of Article VI of the Bylaws of the Farm Credit System Insurance Corporation (FCSIC), that a regular meeting of the Board of Directors of FCSIC will be held September 24, 2020, at 2:00 p.m. EDT, until such time as the Board may conclude its business. Note: Because of the COVID-19 pandemic, we will conduct the board meeting virtually. If you would like to observe the open portion of the virtual meeting, see instructions below for board meeting visitors.

Attendance: To observe the open portion of the virtual meeting, go to FCSIC.gov, select “News & Events,” then “Board Meetings.” There you will find a description of the meeting and “Instructions for board meeting visitors.” See SUPPLEMENTARY INFORMATION for further information about attendance requests.

FOR FURTHER INFORMATION CONTACT: Dale Aultman, Secretary to the Board of the Farm Credit System Insurance Corporation (703) 883-4009. TTY is (703) 883-4056.

SUPPLEMENTARY INFORMATION: Parts of this meeting of the Board will be open to the public, and parts will be closed. If you wish to observe the open portion, follow the instructions above in the “Attendance” section at least 24 hours before the meeting. Please note that this meeting begins at 2:00 p.m. EDT with a session that is closed to the public. You may join this meeting at 3:15 p.m. EDT. We will begin the open session promptly at 3:30 p.m. EDT.

Assistance: If you need assistance for accessibility reasons or if you have any questions, contact Dale Aultman, Secretary to the Farm Credit Administration Board, at (703) 883-4009.

The matters to be considered at the meeting are as follows:

A. Closed Session—Risk Management Reports

• FCSIC Report on Insurance Risk/Premium Risk Factors

B. Open Session

Approval of Minutes

• June 25, 2020

C. Quarterly Business Reports

• FCSIC Financial Report

• Report on Insured Obligations

• Report on Annual Performance Plan

D. New Business

• Annual Performance Plan FY 2021-2022

• Budget for 2021 and 2022

• Insurance Fund Progress Review and Setting of Premium Range Guidance for 2021

Dated: September 15, 2020.
Dale Aultman,
Secretary, Farm Credit System Insurance Corporation.

[FR Doc. 2020-20717 Filed 9-18-20; 8:45 am]

BILLING CODE 6710-01-P